FEDERAL COMMUNICATIONS COMMISSION

Sunshine Act Meeting

September 7, 2000.

Open Commission Meeting; Thursday, September 14, 2000

The Federal Communications Commission will hold an Open Meeting on the subjects listed below on Thursday, September 14, 2000, which is scheduled to commence at 9:30 a.m. in Room TW-C305, at 445 12th Street, SW., Washington, DC.

Item No. | Bureau | Subject
1 | Mass Media | Title: Extension of the Filing Requirement for Children's Television Programming Reports, (FCC Form 398), (MM Docket No. 00-44).
|  | Summary: The Commission will consider a Report and Order, and Further Notice of Proposed Rule Making regarding the extension of the requirement that television broadcasters file children's television programming reports (FCC Form 398).
2 | Mass Media | Title: Children's Television Obligations of Digital Television Broadcasters.
|  | Summary: The Commmission will consider a Notice of Proposed Rule Making regarding television broadcasters' obligation to serve children as they transition to digital transmission technology.
3 | Mass Media | Title: Standardized and Enhanced Disclosure Requirements for Television Broadcast Licensee Public Interest Obligations.
|  | Summary: The Commission will consider a Notice of Proposed Rule Making concerning standardizing and enhancing information provided to the public on how broadcast television stations serve the public interest.
4 | Cable Services | Title: Implementation of Section 304 of the Telecommunications Act of 1996; Commercial Availability of Navigation Devices (CS Docket No. 97-80).
|  | Summary: The Commission will consider a Further Notice of Proposed Rule Making and Declaratory Ruling regarding the navigation devices rules.
5 | Office of plans and policy | Title: Compatibility Between Cable Systems and Consumer Electronics Equipment (PP Docket No. 00-67).
|  | Summary: The Commission will consider a Report and Order concerning compatibility between cable systems and consumer electronics equipment.
6 | Wireless Telecommunications | Title: Promotion of Competitive Networks in Local Telecommunications Markets (WT Docket No. 99-217); Wireless Communications Association International, Inc., Petition for Rule Making to Amend Section 1.4000 of the Commission's Rules to Preempt Restrictions on Subscriber Premises Reception or Transmission Antennas Designed to Provide Fixed Wireless Services; Implementation of the Local Competition Provisions in the Telecommunications Act of 1996 (CC Docket No. 96-98); and Review of Sections 68.104, and 68.213 of the Commission's Rules Concerning Connection of Simple Inside Wiring to Telephone Network (CC Docket No. 88-57).
|  | Summary: The Commission will consider a First Report and Order and Further Notice of Proposed Rule Making in WT Docket No. 99-217, a Fourth report and Order and Memorandum Opinion and Order in CC Docket No. 96-98, and a Memorandum Opinion and Order in CC Docket No. 88-57), regarding obstacles to consumer's choice of telecommunications providers in multiple tenant environments.
7. | Common Carrier, Cable Services, Office of Engineering and Technology, and Office of Plans and Policy | Title: Inquiry Concerning Intermodal Competition Between Providers of High-Speed Services.
|  | Summary: The Commission will consider a Notice of Inquiry concerning issues surrounding high-speed services provided to subscribers over different technologies and to determine what legal and policy framework should apply to high-speed cable access technologies.

Additional information concerning this meeting may be obtained from Maureen Peratino or David Fiske, Office of Media Relations, telephone number (202) 418-0500; TTY (202) 418-2555.

Copies of materials adopted at this meeting can be purchased from the FCC's duplicating contractor, International Transcription Services, Inc. (ITS, Inc.) at (202) 857-3800; fax (202) 857-3805 and 857-3184; or TTY (202) 293-8810. These copies are available in paper format and alternative media, including large print/type; digital disk; and audio tape. ITS may be reached by e-mail: its_inc@ix.netcom.com. Their internet address is http://www.itsdocs.com/.

This meeting can be viewed over George Mason University's Capitol Connection. The Capitol Connection also will carry the meeting live via the Internet. For information on these services call (703) 993-3100. The audio portion of the meeting will be broadcast live on the Internet via the FCC's Internet audio broadcast page at <http://www.fcc.gov/realaudio/>. The meeting can also be heard via telephone, for a fee, from National Narrowcast Network, telephone (202) 966-2111 fax (202) 966-1770. Audio and video tapes of this meeting can be purchased from Infocus, 341 Victory Drive, Herndon, VA 20170, telephone (703) 834-0100; fax number (703) 834-0111.

Federal Communications Commission.
Magalie Roman Salas,
Secretary.

[FR Doc. 00-23494 Filed 9-8-00; 12:00 am]

BILLING CODE 6712-01-M